DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before February 6, 2014. Address written comments to Statutory Import Programs Staff, Room 3720, U.S. Department of Commerce, Washington, DC 20230. Applications may be examined between 8:30 a.m. and 5:00 p.m. at the U.S. Department of Commerce in Room 3720.

Docket Number: 13-031. Applicant: Max Planck Florida Institute, One Max Planck Way, Jupiter, FL 33458. Instrument: Field Emission Gun-Scanning Electron Microscope. Manufacturer: Carl Zeiss Microscopy, Germany. Intended Use: The instrument will be used to examine neural circuits and precisely identify “synaptic contacts” between neurons and distinguish between overlapping processes or actual synaptic contacts using 3D reconstruction of each process and its surroundings. Justification for Duty-Free Entry: There are no instruments of the same general category manufactured in the United States. Application accepted by Commissioner of Customs: July 22, 2013.

Docket Number: 13-042. Applicant: University of Washington Medical Center, 1959 NE Pacific Street, Seattle WA 98195-6100. Instrument: Transmission Electron Microscope—system type: Tecnai G2 Spirit BioTWIN. Manufacturer: FEI Company, Czech Republic. Intended Use: The instrument will be used to reveal the details of structures within cells and the matrix in which living cells are surrounded, and their alterations in disease settings. Justification for Duty-Free Entry: There are no instruments of the same general category manufactured in the United States. Application accepted by Commissioner of Customs: September 19, 2013.

Docket Number: 13-044. Applicant: University of Minnesota-Twin Cities, 421 Washington Avenue SE., Minneapolis, MN 55455. Instrument: Ultrafast Transmission Electron Microscope. Manufacturer: FEI Company, The Netherlands. Intended Use: The instrument will be used to study atomic-scale dynamic, non-equilibrium phenomena in a wide range of materials including polymer/carbon composite materials, polycrystalline graphene membranes, magnetic metal alloys, polycrystalline semiconducting alloys, biotic membranes and single-crystal elemental materials. Justification for Duty-Free Entry: There are no instruments of the same general category manufactured in the United States. Application accepted by Commissioner of Customs: October 22, 2013.

Docket Number: 13-045. Applicant: Embry-Riddle Aeronautical University, 600 S. Clyde Morris Blvd., Daytona Beach, FL 32114. Instrument: Scanning Electron Microscope Quanta 50 with Energy-Dispersive X-Ray Spectroscopy. Manufacturer: FEI Company, Czech Republic. Intended Use: The instrument will be used to examine titanium dioxide nanomaterials for photocatalysts and lithium-ion batteries, complex oxides nanomaterials such as metal-doped-strontium titanates, lead zirconate titanate for electronic applications, cellular solids for aerospace applications, carbon nanotubes and carbon-nanotube-reinforced polymers for aerospace composite applications and air sampling for industrial hygiene research applications. Justification for Duty-Free Entry: There are no instruments of the same general category manufactured in the United States. Application accepted by Commissioner of Customs: October 29, 2013.

Docket Number: 13-046. Applicant: UT-Battelle, LLC for the Dept. of Energy, One Bethel Valley Road, PO Box 2008, Oak Ridge, TN 37831-6138. Instrument: JEM-2100F Field Emission Transmission Electron Microscope. Manufacturer: JEOL Ltd., Japan. Intended Use: The instrument will be used to examine the microstructures of materials in resolution down to the atomic lattice level, investigating microstructural changes resulting from radiation induced defect generation and its effects on materials behavior allowing for further development of fundamental scientific understanding of materials reactions to displacive-type radiation environments. Justification for Duty-Free Entry: There are no instruments of the same general category manufactured in the United States. Application accepted by Commissioner of Customs: November 7, 2013.

Docket Number: 13-047. Applicant: The Scripps Research Institute, 10550 North Torrey Pines Road, M/S BCC-206, La Jolla, CA 92037. Instrument: Transmission Electron Microscope—Talos. Manufacturer: FEI Company, The Netherlands. Intended Use: The instrument will be used to examine the architecture of biological assemblies to determine the manner in which they function and the mechanisms through which they interact with other cellular components, including viruses, cellular protein assemblies, nanoparticles, and cellular organelles. Justification for Duty-Free Entry: There are no instruments of the same general category manufactured in the United States. Application accepted by Commissioner of Customs: November 26, 2013.

Docket Number: 13-049. Applicant: The Regents of the University of Michigan, 210 Washtenaw Avenue, Ann Arbor, MI 48109. Instrument: Titan Krios Transmission Electron Microscope. Manufacturer: FEI Company, The Netherlands. Intended Use: The instrument will be used to study the structure of isolated cellular components, primarily proteins, to process computationally images of protein complexes and apply averaging techniques to calculate 3D models of the specimens under investigation. Justification for Duty-Free Entry: There are no instruments of the same general category manufactured in the United States. Application accepted by Commissioner of Customs: December 12, 2013.

Dated: January 6, 2014.
Gregory W. Campbell,
Director of Subsidies Enforcement, Enforcement and Compliance.

[FR Doc. 2014-00910 Filed 1-16-14; 8:45 am]

BILLING CODE 3510-DS-P